DEPARTMENT OF HOMELAND SECURITY

Bureau of Customs and Border Protection

Senior Executive Service Performance Review Board

AGENCY: U.S. Department of Homeland Security, U.S. Customs and Border Protection.

SUMMARY: Pursuant to 5 U.S.C. 4314(c)(4), this notice announces the appointment of the members of the U.S. Customs and Border Protection Performance Review Board (PRB). The purpose of this PRB is to review and make recommendations concerning proposed performance appraisals, ratings, bonuses, pay adjustments, and other appropriate personnel actions for incumbents of SES positions for which the Commissioner, U.S. Customs and Border Protection, is the appointing authority. The Board will perform PRB functions for other U.S. Department of Homeland Security SES positions if requested.

Composition of Departmental PRB

The Board shall consist of at least three members. In the case of an appraisal of a career appointee, more than half of the members shall consist of career appointees. The names and titles of the PRB members are as follows:

Cresencio S. Arcos, Jr., Director, Office of International Affairs, Office of the Secretary, U.S. Department of Homeland Security;

Marc S. Hollander, Deputy Director, Laboratory Facilities and Management, Office of Under Secretary for Science and Technology, U. S. Department of Homeland Security;

Gregory D. Rothwell, Chief Procurement Executive, Office of the Under Secretary for Management, U.S. Department of Homeland Security;

James A. Williams, Director, US-VISIT Program, Office of the Under Secretary for Border and Transportation, U.S. Department of Homeland Security;

William R. Yates, Associate Director of Operations, U.S. Citizenship and Immigration Services; and the following Assistant Commissioners, U.S. Customs and Border Protection:

David V. Aguilar, Border Patrol.

Jayson P. Ahern, Field Operations.

Richard L. Balaban, Finance.

William A. Keefer, Internal Affairs.

Michael T. Schmitz, Regulations and Rulings.

Robert M. Smith, Human Resources Management.

E. Keith Thomson, International Affairs.

EFFECTIVE DATE: Membership is effective on the date of this notice.

FOR FURTHER INFORMATION CONTACT: Mr. Robert M. Smith, Assistant Commissioner, Human Resources Management, U.S. Customs and Border Protection, 1300 Pennsylvania Avenue, NW., Room 2.4-A, Washington, DC 20229. Telephone (202) 344-1250.

This notice does not meet the U.S. Customs and Border Protection criteria for significant regulations.

Dated: October 29, 2004.
Robert C. Bonner,
Commissioner, Bureau of Customs and Border Protection.

[FR Doc. 04-24500 Filed 11-2-04; 8:45 am]

BILLING CODE 4820-02-P